Proclamation 8245 of April 22, 2008

Loyalty Day, 2008

By the President of the United States of America

A Proclamation

Americans believe that every man, woman, and child has unalienable rights, dignity, and matchless value. Advancing these ideals was the honorable vision of our Founders and the mission that helped shape this great country. On Loyalty Day, we celebrate the legacy of freedom and the shared ideals that bind us together.

Our Soldiers, Sailors, Airmen, Marines, and Coast Guardsmen demonstrate their love of country by stepping forward when America needs them most. By putting our country's security before their own, the men and women of the Armed Forces have strengthened our Nation and brought hope to millions around the world. All Americans are grateful to the members of the military and their families for their service, sacrifice, and dedication, and we are proud of their accomplishments.

Through their good works, our Nation's volunteers bear witness to their steadfast love for America, as exemplified in their commitment to service and good citizenship. Loyalty to this country brings with it a commitment to aid our family, friends, and fellow citizens all across this broad and welcoming land. These volunteers demonstrate their gratitude for the blessings of freedom by helping build a more hopeful future for our children and grandchildren. All Americans can put their loyalty into practice by learning more about the history of our country, flying the American flag, and contributing to our communities.

Two hundred and thirty-two years after the founding of our country, we remain committed to advancing freedom and renewing the values that sustain our liberty. Through the spirit and determination of our people, our Nation will prosper and our liberty will be secure.

The Congress, by Public Law 85-529, as amended, has designated May 1 of each year as “Loyalty Day.” This Loyalty Day, and throughout the year, I ask all Americans to join me in reaffirming our allegiance to our Nation.

NOW, THEREFORE, I, GEORGE W. BUSH, President of the United States of America, do hereby proclaim May 1, 2008, as Loyalty Day. I call upon all people of the United States to join in support of this national observance and to display the flag of the United States on Loyalty Day as a symbol of pride in our Nation.

IN WITNESS WHEREOF, I have hereunto set my hand this twenty-second day of April, in the year of our Lord two thousand eight, and of the Independence of the United States of America the two hundred and thirty-second.

[FR Doc. 08-1194

Filed 4-24-08; 9:11 am]

Billing code 3195-01-P